DEPARTMENT OF TRANSPORTATION

Federal Aviation Administration

14 CFR Part 39

[Docket No. FAA-2023-1503; Project Identifier AD-2023-00197-A]

RIN 2120-AA64

Airworthiness Directives; Epic Aircraft, LLC Airplanes

AGENCY: Federal Aviation Administration (FAA), DOT.

ACTION: Notice of proposed rulemaking (NPRM).

SUMMARY: The FAA proposes to adopt a new airworthiness directive (AD) for certain Epic Aircraft, LLC Model E1000 airplanes. This proposed AD was prompted by improperly rigged flap position switches. This proposed AD would require installing a secondary full position limit switch to the flap system, installing a switch ramp on the flap actuator, and modifying the take-off position switch rigging. The FAA is proposing this AD to address the unsafe condition on these products.

DATES: The FAA must receive comments on this proposed AD by September 5, 2023.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov by searching for and locating Docket No. FAA-2023-1503; or in person at Docket Operations between 9 a.m. and 5 p.m., Monday through Friday, except Federal holidays. The AD docket contains this NPRM, any comments received, and other information. The street address for Docket Operations is listed above.

Material Incorporated by Reference:

• For service information identified in this NPRM, contact Epic Aircraft, LLC, 22590 Nelson Road, Bend, OR 97701; phone: (541) 639-4603; email: info@epicaircraft.com; website: epicaircraft.com.

• You may view this service information at the FAA, Airworthiness Products Section, Operational Safety Branch, 901 Locust, Kansas City, MO 64106. For information on the availability of this material at the FAA, call (817) 222-5110.

FOR FURTHER INFORMATION CONTACT: Anthony Caldejon, Aviation Safety Engineer, FAA, 3960 Paramount Boulevard, Lakewood, CA 90712; phone: (206) 231-3534; email: Anthony.V.Caldejon@faa.gov.

SUPPLEMENTARY INFORMATION:

Comments Invited

The FAA invites you to send any written relevant data, views, or arguments about this proposal. Send your comments to an address listed under ADDRESSES. Include “Docket No. FAA-2023-1503; Project Identifier AD-2023-00197-A” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Anthony Caldejon, Aviation Safety Engineer, FAA, 3960 Paramount Boulevard, Lakewood, CA 90712. Any commentary that the FAA receives which is not specifically designated as CBI will be placed in the public docket for this rulemaking.

Background

The FAA received a report that during a production ground test, the flap position switches were not properly rigged and allowed the actuator to travel beyond the commanded flaps' full (fully extended) position. The flap actuator could overrun the flaps' fully extended position if the full position microswitch is either missing or not rigged properly, resulting in an uncertified flap configuration. This condition, if not addressed, could result in loss of control of the airplane.

FAA's Determination

The FAA is issuing this NPRM after determining that the unsafe condition described previously is likely to exist or develop on other products of the same type design.

Related Service Information Under 1 CFR Part 51

The FAA reviewed Epic Aircraft Service Bulletin SB-0034, Revision B, issued December 22, 2022. This service information specifies procedures for installing a secondary full position limit switch to the flap system to prevent over-travel. This service information also specifies procedures for installing a switch ramp on the flap actuator to improve reliability and modifying the take-off position switch rigging. In addition, this service information specifies procedures for checking the flap-to-wing clearances, adjusting clearances as needed, and contacting Epic Aircraft if clearance and travel limits cannot be met. This service information is reasonably available because the interested parties have access to it through their normal course of business or by the means identified in ADDRESSES.

Proposed AD Requirements in This NPRM

This proposed AD would require accomplishing the actions specified in the service information already described, except as discussed under “Differences Between this Proposed AD and the Service Information.”

Differences Between This Proposed AD and the Service Information

The service information specifies contacting the manufacturer if the clearance and travel limits are exceeded during the check of the flap-to-wing clearances, but this proposed AD would not require that action. This proposed AD would require adjusting the flap-to-wing clearances until they do not exceed the specified travel limits.

Costs of Compliance

The FAA estimates that this AD, if adopted as proposed, would affect 29 airplanes of U.S. registry.

The FAA estimates the following costs to comply with this proposed AD:

Estimated Costs
Action | Labor cost | Parts cost | Cost per product | Cost on U.S. operators
Install a secondary full position limit switch to the flap system | 1 work-hour × $85 per hour = $85 | $587 | $672 | $19,488
Install a switch ramp on the flap actuator | 1 work-hour × $85 per hour = $85 | 54 | 139 | 4,031
Modify rigging | 4 work-hours × $85 per hour = $340 | 0 | 340 | 9,860

The FAA has no data to determine the costs to accomplish the corrective action of adjusting the flap-to-wing clearances or the number of airplanes that may require this corrective action.

The FAA has included all known costs in its cost estimate. According to the manufacturer, however, all of the costs of this proposed AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Epic Aircraft, LLC: Docket No. FAA-2023-1503; Project Identifier AD-2023-00197-A.

(a) Comments Due Date

The FAA must receive comments on this airworthiness directive (AD) by September 5, 2023.

(b) Affected ADs

None.

(c) Applicability

This AD applies to Epic Aircraft, LLC Model E1000 airplanes, serial numbers K003 through K032 inclusive, certificated in any category.

(d) Subject

Joint Aircraft System Component (JASC) Code 2750, TE Flap Control System.

(e) Unsafe Condition

This AD was prompted by a report that during a production ground test, the flap position switches were not properly rigged and allowed the actuator to travel beyond the commanded flaps' full (fully extended) position. The FAA is issuing this AD to prevent the flap actuator from overrunning the flaps' fully extended position if the full position microswitch is either missing or not rigged properly, resulting in an uncertified flap configuration. The unsafe condition, if not addressed, could result in loss of control of the airplane.

(f) Compliance

Comply with this AD within the compliance times specified, unless already done.

(g) Required Actions

Within 12 months after the effective date of this AD, install a secondary full position limit switch to the flap system, install a switch ramp on the flap actuator, and modify the take-off position switch rigging in accordance with steps 5 through 13 of the Instructions section in Epic Aircraft Service Bulletin SB-0034, Revision B, issued December 22, 2022 (Epic SB-0034, Revision B). Where Epic SB-0034, Revision B, specifies to discard a switch block, this AD requires removing that part from service. If, during the accomplishment of step 12, the flap-to-wing clearances exceed the specified travel limits, before further flight, adjust the flap-to-wing clearances until they do not exceed the specified travel limits. Where Epic SB-0034, Revision B, specifies to contact Epic Aircraft if clearance and travel limits cannot be met, this AD does not require that action.

Note 1 to paragraph (g): Information regarding the flap-to-wing travel limits may be found in Epic E1000 Maintenance Manual SK05000000, Revision A, dated April 13, 2020.

(h) Alternative Methods of Compliance (AMOCs)

(1) The Manager, West Certification Branch, FAA, has the authority to approve AMOCs for this AD, if requested using the procedures found in 14 CFR 39.19. In accordance with 14 CFR 39.19, send your request to your principal inspector or local Flight Standards District Office, as appropriate. If sending information directly to the manager of the certification branch, send it to the attention of the person identified in paragraph (i)(1) of this AD. Information may be emailed to: 9-ANM-Seattle-ACO-AMOC-Requests@faa.gov.

(2) Before using any approved AMOC, notify your appropriate principal inspector, or lacking a principal inspector, the manager of the local flight standards district office/certificate holding district office.

(i) Related Information

(1) For more information about this AD, contact Anthony Caldejon, Aviation Safety Engineer, FAA, 3960 Paramount Boulevard, Lakewood, CA 90712; phone: (206) 231-3534; email: Anthony.V.Caldejon@faa.gov.

(2) Service information identified in this AD that is not incorporated by reference is available at the addresses specified in paragraphs (j)(3) and (4) of this AD.

(j) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Epic Aircraft Service Bulletin SB-0034, Revision B, issued December 22, 2022.

(ii) [Reserved]

(3) For service information identified in this AD, contact Epic Aircraft, LLC, 22590 Nelson Road, Bend, OR 97701; phone: (541) 639-4603; email: info@epicaircraft.com; website: epicaircraft.com.

(4) You may view this service information at the FAA, Airworthiness Products Section, Operational Safety Branch, 901 Locust, Kansas City, MO 64106. For information on the availability of this material at the FAA, call (817) 222-5110.

(5) You may view this service information that is incorporated by reference at the National Archives and Records Administration (NARA). For information on the availability of this material at NARA, email: fr.inspection@nara.gov, or go to: www.archives.gov/federal-register/cfr/ibr-locations.html.

Issued on July 17, 2023.
Victor Wicklund,
Deputy Director, Compliance & Airworthiness Division, Aircraft Certification Service.

[FR Doc. 2023-15488 Filed 7-20-23; 8:45 am]

BILLING CODE 4910-13-P